DEPARTMENT OF THE INTERIOR

Bureau of Indian Affairs

[256A2100DD/AAKC001030/A0A501010.000000]

Notice of Public Meeting of the Advisory Board for Exceptional Children

AGENCY: Bureau of Indian Affairs, Interior.

ACTION: Notice of public meeting.

SUMMARY: The Bureau of Indian Education (BIE) is announcing that the Advisory Board for Exceptional Children will hold a two-day in-person and online meeting. The purpose of the meeting is to meet the mandates of the Individuals with Disabilities Education Act of 2004 (IDEA) for Indian children with disabilities.

DATES: The BIE Advisory Board meeting will be held Thursday, September 25, 2025, from 8:00 a.m. to 4:00 p.m., Eastern Daylight Time (EDT) and Friday, September 26, 2025, from 8:00 a.m. to 2:00 p.m., EDT.

ADDRESSES: The onsite meeting location will be at the U.S. Department of the Interior, 1849 C Street NW, Washington, DC 20240. To attend virtually, participants may use this link to register: https://www.zoomgov.com/meeting/register/oZH1F0KHR_G6rEMDp6TjoA. Attendees register once and can attend one or both meeting events. After registering, you will receive a confirmation email containing information about joining the meeting.

Public comments can be emailed to the DFO at Jennifer.davis@bie.edu; or faxed to (602) 265-0293 Attention: Jennifer Davis, DFO; or mailed or hand delivered to the Bureau of Indian Education, Attention: Jennifer Davis, DFO, 2600 N Central Ave., 12th Floor, Suite 250, Phoenix, AZ 85004.

FOR FURTHER INFORMATION CONTACT: Jennifer Davis, Designated Federal Officer, Bureau of Indian Education, 2600 N Central Ave., 12th Floor, Suite 250, Phoenix, AZ 85004, Jennifer.Davis@bie.edu, or mobile phone (202) 860-7845.

SUPPLEMENTARY INFORMATION: In accordance with the Federal Advisory Committee Act (5 U.S.C. 10), the BIE is announcing the Advisory Board will hold its next meeting in-person and online. The Advisory Board was established under the Individuals with Disabilities Act of 2004 (20 U.S.C. 1400 et seq.) to advise the Secretary of the Interior, through the Assistant Secretary—Indian Affairs, on the needs of Indian children with disabilities. All meetings, including virtual sessions, are open to the public in their entirety.

Meeting Agenda Items

The following agenda items will be for the September 25, 2025, and September 26, 2025, meeting.

• Bureau of Indian Education (BIE) Central Office—Updates and Changes.

• The BIE's Special Education Program—Updates and Changes.

• Panel Discussion with current BIE funded School Superintendents, Administrators, and Principals—focusing on how their work aligns with the needs of native students with disabilities. Provides an overview of work, current challenges, recent achievements, and recommendations regarding students with disabilities.

• Office of Special Education Programs (OSEP) Funded Technical Assistance Centers (Part D)—focusing on how their work aligns with the needs of native students with disabilities. Provides an overview of their work, current challenges, recent achievements, recommendations regarding students with disabilities, and major changes have occurred that affect the work and partnerships.

• BIE Education Specialists (special education) representing Bureau Operated Schools and Tribally Controlled Schools—focusing on how their work aligns with the needs of native students with disabilities. Provides an overview of their work, current challenges, recent achievements, and recommendations regarding students with disabilities.

• Advisory Board Work Session: finalize the FY 2024 annual report; address the next meeting logistics; discuss next steps; provide recommendations for future projects or meetings; wrap-up important decisions; discuss outstanding tasks; and share working folders with board members for future meetings.

• Public Commenting Sessions will be provided during the Open Dialogue sessions and Board Work sessions, Thursday, September 25, 2025, and Friday, September 26, 2025.

○ Public comments can be provided verbally via webinar or in writing using the chat box.

○ Public comments can also be emailed to the DFO at Jennifer.Davis@bie.edu; or faxed to (602) 265-0293 Attention: Jennifer Davis, DFO; or mailed or hand delivered to the Bureau of Indian Education, Attention: Jennifer Davis, DFO, 2600 N Central Ave. 12th Floor, Suite 250, Phoenix, Arizona 85004.

Request for Accommodations: Please make requests in advance for sign language interpreter services, assistive listening devices, or other reasonable accommodations. Please contact the person listed in the section FOR FURTHER INFORMATION CONTACT at least seven (7) business days prior to the meeting to give the Department of the Interior sufficient time to process your request. All reasonable accommodation requests are managed on a case-by-case basis.

Public Disclosure of Comments: Before including your address, phone number, email address, or other personal identifying information in your comment, you should be aware that your entire comment—including your personal identifying information—may be made publicly available at any time. While you can ask us in your comment to withhold your personal identifying information from public review, we cannot guarantee that we will be able to do so.

(Authority: 5 U.S.C. Ch. 10)

Scott J. Davis,
Senior Advisor to the Secretary of the Interior, Exercising the delegated authority of the Assistant Secretary—Indian Affairs.

[FR Doc. 2025-16710 Filed 8-29-25; 8:45 am]

BILLING CODE 4337-15-P